DEPARTMENT OF AGRICULTURE

Submission for OMB Review; Comment Request

March 23, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 27, 2017 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Plum Pox Compensation.

OMB Control Number: 0579-0159.

Summary of Collection: Under the Plant Protection Act (7 U.S.C. 7701et seq.), the Secretary of Agriculture is authorized to prohibit or restrict the importation, entry, or movement of plants and plant pests to prevent the introduction of plant pests into the United States or their dissemination within the United States. The regulations in 7 CFR 301.74-5 permit owners of commercial stone fruit orchards and owners of fruit tree nurseries to receive compensation under certain circumstances. Owners of commercial stone fruit orchards may receive compensation for losses associated with trees destroyed to control plum pox pursuant to an emergency action notification (EAN) issued by the Animal & Plant Health Inspection Service (APHIS). Owners of fruit tree nurseries may receive compensation for net revenue losses associated with movement or sale of nursery stock prohibited under an EAN issued by APHIS with respect to regulated articles within the nursery in order to control plum pox. Plum Pox is an extremely serious viral disease of plants that can affect many stone fruit species, including plum, peach, apricot, almond, and nectarine. APHIS will collect information using form PPQ 651 Application for Plum Pox Compensation, PPQ 523 Emergency Action Notification, Orchard Owner Records, Destruction Verification Document, and State Compensation.

Need and Use of the Information: APHIS will collect the owner's name and address, a description of the owner's property, and a certification statement that the trees removed from the owner's property were stone fruit trees from commercial fruit orchards or fruit tree nurseries. For claims made by owners of stone fruit orchards, the completed application must be accompanied by a copy of the EAN ordering the destruction of their trees, the notification's accompanying inventory describing the acreage and ages of trees removed and documentation verifying that the destruction of the trees have been completed and the date of that completion. For claims made by owners of fruit tree nurseries, the completed application must be accompanied by a copy of the EAN prohibiting the same or movement of the nursery stock, the notification's accompanying inventory describing the total number of trees covered by the EAN, their age and variety, and documentation indicating the final disposition of the nursery stock. Without the information APHIS would be unable to compensate eligible grove and nursery owners for their losses.

Description of Respondents: Farms; Business or other for-profit.

Number of Respondents: 2.

Frequency of Responses: Reporting: On occasion.

Total Burden Hours: 5.

Ruth Brown,
Departmental Information Collection Clearance Officer.

[FR Doc. 2017-06077 Filed 3-27-17; 8:45 am]

BILLING CODE 3410-34-P